DEPARTMENT OF HEALTH AND HUMAN SERVICES

Centers for Disease Control and Prevention

[30DAY-25-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Data Collection on Attention Deficit Hyperactivity Disorder (ADHD)—New—National Center for Birth Defects and Developmental Disabilities (NCBDDD), Centers for Disease Control and Prevention (CDC). This project will collect data from proxy respondents on children ages 4 to 10 with and without ADHD. This program addresses the Healthy People 2010 focus area of Mental Health and Mental Disorders, and describes the prevalence, treated prevalence, select co-morbid conditions, secondary conditions, and health risk behavior of ADHD.

Background

The purpose of this program is to support research in ADHD and the exploration of other health conditions and health risk behaviors to children with the disorder. The main objectives of the project are to determine the prevalence or treated prevalence of children with ADHD in a defined community; to identify rates of select co-morbid or secondary conditions in children with ADHD in a defined community; to identify types and rates of health risk behaviors in children with ADHD; and to describe current and previous receipt of treatment in children with ADHD. The estimated annualized burden is 4,367 hours.

Respondents | Number of respondents | Number of responses per respondent | Average burden per response (in hours)
VADTRS/SDQ (Teacher Report) | 1,350 | 1 | 6/60
Two-Question Previous Diagnosis and Treatment Screener (Parent) | 22,000 | 1 | 1/60
Health Risk Behavior Survey (Parent Report) | 2,500 | 1 | 10/60
Demographic Survey (Parent) | 2,500 | 1 | 5/60

Dated: February 3, 2003.
Thomas Bartenfeld,
Acting Associate Director for Policy, Planning and Evaluation, Centers for Disease Control and Prevention.

[FR Doc. 03-3037 Filed 2-6-03; 8:45 am]

BILLING CODE 4163-18-P